DEPARTMENT OF ENERGY

Orders Granting Authority To Import and Export Natural Gas, To Import and Export Liquefied Natural Gas, and Vacating Authority and Change in Control During April 2015

AGENCY: Office of Fossil Energy, Department of Energy (DOE).

ACTION: Notice of orders.

| FE Docket Nos.
CONSTELLATION ENERGY SERVICES, INC. (formerly INTEGRYS ENERGY SERVICES, INC.) | 15-40-NG
PANGEA LNG (NORTH AMERICA) HOLDINGS, LLC | 12-174-LNG 12-184-LNG 14-002-CIC 14-003-CIC
CAMERON LNG, LLC | 14-204-LNG
LATIN AMERICA NG FUELS LLC | 15-28-LNG
NOBLE AMERICAS GAS & POWER CORP | 15-35-NG
PILOT POWER GROUP, INC | 15-42-NG
SEMPRA GENERATION, LLC | 15-47-NG
STATOIL NATURAL GAS LLC | 15-50-LNG
OMIMEX CANADA, LTD | 15-52-NG
FREEPOINT COMMODITIES LLC | 15-46-NG
ENI USA GAS MARKETING LLC | 15-13-LNG
FERUS NATURAL GAS FUELS INC | 14-191-LNG
RBC ENERGY SERVICES L.P | 15-49-NG
J.P. MORGAN COMMODITIES CORPORATION | 13-76-NG
J.P. MORGAN COMMODITIES CANADA CORPORATION | 12-151-NG

SUMMARY: The Office of Fossil Energy (FE) of the Department of Energy gives notice that during March 2015, it issued orders granting authority to import and export natural gas, to import and export liquefied natural gas (LNG), and vacating authority and Change in Control (CIC). These orders are summarized in the attached appendix and may be found on the FE Web site at http://energy.gov/fe/downloads/listing-doefe-authorizationsorders-issued-2015.

They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on September 30, 2015.
John A. Anderson,
Director, Office of Oil and Gas Global Security and Supply, Office of Oil and Natural Gas.

Appendix—DOE/FE Orders Granting Import/Export Authorizations
3619 | 15-40-NG | 04/01/15 | Constellation Energy Services, Inc. (formerly Integrys Energy Services, Inc.) | Order granting blanket authority to import/export natural gas from/to Canada and vacating prior authority.
3227-A | 12-174-LNG 12-184-LNG 14-002-CIC 14-003-CIC | 04/08/15 | Pangea LNG (North America) Holdings, LLC | Order vacating authority in Docket No. 12-174-LNG; withdrawing application in Docket No. 12-184-LNG, and vacating Notice of Corporate Reorganization or Change in Control in Docket No. 12-184-LNG and related dockets.
3620 | 14-204-LNG | 04/09/15 | Cameron LNG, LLC | Order granting long-term Multi-contract authority to export LNG by vessel from the Cameron LNG Terminal in Cameron Parish, Louisiana, to Free Trade Agreement Nations.
3621 | 15-28-LNG | 04/09/15 | Latin America NG Fuels LLC | Order granting blanket authority to import/export LNG from/to Mexico by truck.
3622 | 15-35-NG | 04/09/15 | Noble Americas Gas & Power Corp | Order granting blanket authority to import/export natural gas from/to Canada/Mexico and to import LNG from various international sources by vessel.
3623 | 15-42-NG | 04/09/15 | Pilot Power Group, Inc | Order granting blanket authority to import/export natural gas from/to Canada/Mexico.
3624 | 15-47-NG | 04/09/15 | Sempra Generation, LLC | Order granting blanket authority to import/export natural gas from/to Mexico.
3625 | 15-50-LNG | 04/09/15 | Statoil Natural Gas LLC | Order granting blanket authority to import LNG from various international sources.
3626 | 15-52-NG | 04/09/15 | Omimex Canada, Ltd | Order granting blanket authority to import/export natural gas from/to Canada.
3627 | 15-46-NG | 04/15/15 | Freepoint Commodities LLC | Order granting blanket authority to import/export natural gas from/to Canada/Mexico.
3628 | 15-13-LNG | 04/23/15 | Eni USA Gas Marketing LLC | Order granting blanket authority to export previously imported LNG by vessel.
3629 | 14-191-LNG | 04/30/15 | Ferus Natural Gas Fuels Inc | Order granting blanket authority to import/export LNG from/to Canada by truck.
3630 | 15-49-NG | 04/30/15 | RBC Energy Services L.P | Order granting blanket authority to import/export natural gas from/to Canada.
3308-A | 13-76-NG | 04/30/15 | J.P. Morgan Commodities Corporation | Order vacating authority to import/export natural gas from/to Canada.
3246-A | 12-151-NG | 04/30/15 | J.P. Morgan Commodities Canada Corporation | Order vacating authority to export natural gas to Canada.

[FR Doc. 2015-25392 Filed 10-5-15; 8:45 am]

BILLING CODE 6450-01-P